DEPARTMENT OF JUSTICE

Antitrust Division

Notice Pursuant to the National Cooperative Research and Production Act of 1993—Heterogeneous System Architecture Foundation

Notice is hereby given that, on March 13, 2017, pursuant to Section 6(a) of the National Cooperative Research and Production Act of 1993, 15 U.S.C. 4301 et seq. (“the Act”), Heterogeneous System Architecture Foundation (“HSA Foundation”) has filed written notifications simultaneously with the Attorney General and the Federal Trade Commission disclosing changes in its membership. The notifications were filed for the purpose of extending the Act's provisions limiting the recovery of antitrust plaintiffs to actual damages under specified circumstances. Specifically, FUDAN University, China, Shanghai, People's Republic of China; Hunan Institute of Science and Technology, Yueyang City, People's Republic of China; Shenyang Institute of Automation (SIA), Chinese Academy of Sciences, Shenyang Liaoning Province, People's Republic of China; Sun Yat-sen University, Guangzhou, People's Republic of China; Southeast University, Nanjing, People's Republic of China; Nantong University's School of Electronics and Information, Jiangsu, People's Republic of China; Nanjing University of Aeronautics and Astronautics, Nanjing, People's Republic of China; The International School of Microelectronics of Nanjing University, Nanjing, People's Republic of China; Nanjing University of Posts and Telecommunications, Nanjing, People's Republic of China; Jiangsu Software Defined Radio Engineering Research Center, Nanjing, People's Republic of China; Institute of Computing Technology, Chinese Academy of Sciences, Beijing, People's Republic of China; Shanghai Advanced Research Institute, Chinese Academy of Sciences, Shanghai, People's Republic of China; Shanghai Institute of Microsystem and Information Technology, Shanghai, People's Republic of China; Shanghai Jiao Tong University, Shanghai, People's Republic of China; Shanghai Research Center for Wireless Communications, Shanghai, People's Republic of China; Shanghai University, Shanghai, People's Republic of China; and University of Science and Technology Beijing, Beijing, People's Republic of China, have been added as parties to this venture.

No other changes have been made in either the membership or planned activity of the group research project. Membership in this group research project remains open, and HSA Foundation intends to file additional written notifications disclosing all changes in membership.

On August 31, 2012, HSA Foundation filed its original notification pursuant to Section 6(a) of the Act. The Department of Justice published a notice in the Federal Register pursuant to Section 6(b) of the Act on October 11, 2012 (77 FR 61786).

The last notification was filed with the Department on September 27, 2016. A notice was published in the Federal Register pursuant to Section 6(b) of the Act on November 3, 2016 (81 FR 76629).

Patricia A. Brink,
Director of Civil Enforcement, Antitrust Division.

[FR Doc. 2017-06593 Filed 4-3-17; 8:45 am]

BILLING CODE P